DEPARTMENT OF THE INTERIOR

National Park Service

[NPS-WASO-NAGPRA-22754; PPWOCRADN0-PCU00RP14.R50000]

Notice of Inventory Completion for Native American Human Remains and Associated Funerary Objects in the Possession of the Arkansas Archeological Survey, Fayetteville, AR, and Notice of Inventory Completion: Arkansas Archeological Survey, Fayetteville, AR; Correction

AGENCY: National Park Service, Interior.

ACTION: Notice; correction.

SUMMARY: The Arkansas Archeological Survey has corrected an inventory of human remains and associated funerary objects, published in a Notice of Inventory Completion in the Federal Register on April 15, 2002 and on December 22, 2014. This notice removes human remains and associated funerary objects that are not under the control of the Arkansas Archeological Society.

ADDRESSES: Dr. George Sabo, Director, Arkansas Archeological Survey, 2475 North Hatch Avenue, Fayetteville, AR 72704, telephone (479) 575-3556.

SUPPLEMENTARY INFORMATION: Notice is here given in accordance with the Native American Graves Protection and Repatriation Act (NAGPRA), 25 U.S.C. 3003, of the correction of an inventory of human remains and associated funerary objects previously thought to be under the control of the Arkansas Archeological Survey. The human remains and associated funerary objects were removed from Clark County, Poinsett County, and Pulaski County, AR.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice removes human remains and associated funerary objects published in a Notice of Inventory Completion in the Federal Register (67 FR 18242, April 15, 2002) and (79 FR 76357, 76359, December 22, 2014). Three sites listed in those notices by the Arkansas Archeological Survey (AAS) were determined later to be under the control of the Arkansas State Highway and Transportation Department. Transfer of control of the items in this correction notice has not occurred.

Correction

In the Federal Register (67 FR 18242, April 15, 2002), column 2, paragraph 7 is removed in its entirety.

In the Federal Register (67 FR 18243, April 15, 2002), column 1, paragraph 2, sentence 1 is corrected by replacing the number 140 with the number 116.

In the Federal Register (67 FR 18243, April 15, 2002), column 1, paragraph 2, sentence 2 is corrected by replacing the number 168 with the number 62.

In the Federal Register (79 FR 76357, December 22, 2014), column 3, paragraph 5 is removed in its entirety.

In the Federal Register (79 FR 76358, December 22, 2014), column 3, paragraph 6 is removed in its entirety.

In the Federal Register (79 FR 76361, December 22, 2014), column 3, paragraph 3, sentence 1 is corrected by replacing the number 440 with the number 435.

The Arkansas Archeological Survey is responsible for notifying the Caddo Nation of Oklahoma and the Quapaw Tribe of Indians that this notice has been published.

Dated: January 17, 2017.
Melanie O'Brien,
Manager, National NAGPRA Program.

[FR Doc. 2017-03613 Filed 2-23-17; 8:45 am]

BILLING CODE 4312-52-P